NUCLEAR REGULATORY COMMISSION

Request for a License To Import Radioactive Waste

Pursuant to 10 CFR 110.70(C) “Public notice of receipt of an application,” please take notice that the Nuclear Regulatory Commission has received the following request for an import license. Copies of the request are available electronically through ADAMS and can be accessed through the Public Electronic Reading Room (PERR) link http://www.nrc.gov/NRC/ADAMS/index.html at the NRC Homepage.

The application includes in its quantity and activity level two barrels of contaminated rags, gloves, and clothing which, in 2004, were inadvertently shipped from France to AREVA NP without a specific NRC import license.

A request for a hearing or petition for leave to intervene may be filed within 30 days after publication of this notice in the Federal Register. Any request for hearing or petition for leave to intervene shall be served by the requestor or petitioner upon the applicant, the Office of the General Counsel, U.S. Nuclear Regulatory Commission, Washington, DC 20555; the Secretary, U.S. Nuclear Regulatory Commission, Washington, DC 20555; and the Executive Secretary, U.S. Department of State, Washington, DC 20520.

The information concerning this import license application follows.

NRC Import License Application
Name of applicant Date of application Date received Application No. Docket No. | Description of material: Material type | Description of material: Total quantity | End use | Country of origin
AREVA NP Inc., May 1, 2006, May 18, 2006, IW018, 11005628 | Class A radioactive waste in the form of contaminants of compacted dry activated waste—gloves, rags, and clothing and Class C resins | Up to 457 kilograms of dry activated materials contaminated with various radionuclides. Total activity level of Class A waste not to exceed .07 TBq Up to 88 kilograms of Class C resins with a total activity level not to exceed 0.21 TBq | Waste generated from decontaminating and inspecting Dominion Generation Surry Power Station's Reactor Coolant Pump is to be returned to AREVA. It is to be sent to Energy Solutions (Duratek) for processing and then to Barnwell, South Carolina for burial. If not sent to Energy Solutions, the resin will be returned to the Surry Plant's resin holding tank | France.

For the Nuclear Regulatory Commission.
Dated this 11th day of July 2006 at Rockville, Maryland.
Margaret M. Doane,
Deputy Director, Office of International Programs.

[FR Doc. E6-12369 Filed 7-31-06; 8:45 am]

BILLING CODE 7590-01-P